DEPARTMENT OF HOMELAND SECURITY

Federal Emergency Management Agency

[Docket ID FEMA-2019-0002; Internal Agency Docket No. FEMA-B-1937]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Peoria (19-09-0336P) | The Honorable Cathy Carlat, Mayor, City of Peoria, 8401 West Monroe Street, Peoria, AZ 85345 | City Hall, 8401 West Monroe Street, Peoria, AZ 85345 | https://msc.fema.gov/portal/advanceSearch | Sep. 13, 2019 | 040050
Pima | City of Tucson (18-09-2360P) | The Honorable Jonathan Rothschild, Mayor, City of Tucson, City Hall, 255 West Alameda Street, 10th Floor, Tucson, AZ 85701 | Planning and Development Services, Public Works Building, 201 North Stone Avenue, Tucson, AZ 85701 | https://msc.fema.gov/portal/advanceSearch | Aug. 23, 2019 | 040076
Pima | Unincorporated Areas of Pima County (18-09-2360P) | The Honorable Richard Elias, Chairman, Board of Supervisors, Pima County, 130 West Congress Street, 11th Floor, Tucson, AZ 85701 | Pima County Flood Control District, 201 North Stone Avenue, 9th Floor, Tucson, AZ 85701 | https://msc.fema.gov/portal/advanceSearch | Aug. 23, 2019 | 040073
California: Orange | City of Irvine (19-09-0114P) | The Honorable Christina L. Shea, Mayor, City of Irvine, 1 Civic Center Plaza, Irvine, CA 92606 | City Hall, 1 Civic Center Plaza, Irvine, CA 92606 | https://msc.fema.gov/portal/advanceSearch | Sep. 20, 2019 | 060222
Florida: Clay | Unincorporated Areas of Clay County (19-04-2097P) | Ms. Diane Hutchings, Commissioner, Clay County Board of County Commissioners, P.O. Box 1366, Green Cove Springs, FL 32043 | Clay County, Public Works Department, 5 Esplanade Avenue, Green Cove Springs, FL 32043 | https://msc.fema.gov/portal/advanceSearch | Aug. 30, 2019 | 120064
Michigan:
Washtenaw | Township of Scio (19-05-0515P) | Mr. Jack Knowles, Supervisor, Township of Scio, 100 North 5th Avenue, Ann Arbor, MI 48104 | Township Hall, 827 North Zeeb Road, Ann Arbor, MI 48103 | https://msc.fema.gov/portal/advanceSearch | Aug. 9, 2019 | 260537
Wayne | Township of Canton (18-05-5772P) | The Honorable Pat Williams, Township Supervisor, Township of Canton, Canton Municipal Complex, 1150 South Canton Center Road, Canton, MI 48188 | Municipal Complex, 1150 South Canton Center Road, Canton, MI 48188 | https://msc.fema.gov/portal/advanceSearch | Aug. 30, 2019 | 260219
Nebraska: Washington | City of Blair (18-07-0934P) | The Honorable Richard Hansen, Mayor, City of Blair, 218 South 16th Street, Blair, NE 68008 | City Hall, 218 South 16th Street, Blair, NE 68008 | https://msc.fema.gov/portal/advanceSearch | Sep. 23, 2019 | 310228
New York: Westchester | Village of Mamaroneck (19-02-0392P) | The Honorable Thomas A. Murphy, Mayor, Village of Mamaroneck, 123 Mamaroneck Avenue, Mamaroneck, NY 10543 | Building Inspector, Village Hall, 3rd Floor, 169 Mount Pleasant Avenue, Mamaroneck, NY 10543 | https://msc.fema.gov/portal/advanceSearch | Oct. 18, 2019 | 360916
Texas: Dallas | City of Mesquite (19-06-0203P) | The Honorable Stan Pickett, Mayor, City of Mesquite, P.O. Box 850137, Mesquite, TX 75185 | City Engineering Services, 1515 North Galloway Avenue, Mesquite, TX 75185 | https://msc.fema.gov/portal/advanceSearch | Aug. 27, 2019 | 485490

[FR Doc. 2019-12943 Filed 6-18-19; 8:45 am]

BILLING CODE 9110-12-P